DEPARTMENT OF HOUSING AND URBAN DEVELOPMENT

[Docket No. FR-4652-N-06]

Notice of Proposed Information Collection for Public Comment for the Office of Public and Indian Housing Pet Ownership for the Elderly or Persons With Disabilities

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: May 11, 2001.

ADDRESSES: Interested persons are invited to submit comments regarding this proposal. Comments should refer to the proposal by name and/or OMB control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642 extension 4128, for copies of the proposed forms and other available documents. (This is not a toll-free number.)

SUPPLEMENTARY INFORMATION: The Department will submit the proposed information collection to OMB for review, as required by the Paperwork Reduction Act of 1995 [44 U.S.C. Chapter 35, as amended].

This Notice is soliciting comments from members of the public and affected agencies concerning the proposed collection of information to: (1) Evaluate whether the proposed collection of information is necessary for the proper performance of the functions of the agency, including whether the information will have practical utility; (2) evaluate the accuracy of the agency's estimate of the burden of the proposed collection of information: (3) enhance the quality, utility, and clarity of the information to be collected; and (4) minimize the burden of the collection of information on those who are to respond, including through the use of appropriate automated collection techniques or other forms of information technology; e.g., permitting electronic submission of response.

This Notice also list the following information:

Title of Proposal: Pet Ownership for the Elderly or Persons with Disabilities.

OMB Control Number: 2577-0078.

Description of the need for the information and proposed use: This information collection is under the authority of Section 227 of the Housing and Urban-Rural Recovery Act of 1983 (12 U.S.C. 170r-1). HUD issued regulations in 24 CFR part 5, subpart C, necessary to ensure attaining the goal of providing decent, safe, and sanitary housing for elderly or persons with disabilities. The statute also requires that these regulations establish guidelines under which Public Housing Agencies (PHAs), owners and managers may prescribe reasonable rules for the keeping of pets by tenants and must consult with tenants in prescribing the rules. The PHAs give written notices to applicants that pets are permitted, working animals are excluded from regulation requirements, and where leases prohibit pets, tenants may request lease amendment. A copy of pet rules and written notice are given to each applicant when offered a unit.

Agency form number, if applicable: None.

Members of affected public: State, Local or Tribal Government; Individuals or households.

Estimation of the total number of hours needed to prepare the information collection including number of respondents, frequency of response: 256 burden hours (32,000 respondents, .008 hour average per response).

Status of the proposed information collection: Reinstatement.

Authority: Section 3506 of the Paperwork Reduction Act of 1995, 44 U.S.C. Chapter 35, as amended.

Dated: March 5, 2001.
Gloria J. Cousar,
Acting General Deputy Assistant Secretary for Public and Indian Housing.

[FR Doc. 01-5974 Filed 3-9-01; 8:45 am]

BILLING CODE 4210-33-M